DEPARTMENT OF TRANSPORTATION

Federal Aviation Administration

14 CFR Part 39

[Docket No. FAA-2006-24171; Directorate Identifier 2006-NE-08-AD; Amendment 39-16093; AD 2007-11-18R1]

RIN 2120-AA64

Airworthiness Directives; General Electric Company CF6-50C Series Turbofan Engines

AGENCY: Federal Aviation Administration (FAA), Department of Transportation (DOT).

ACTION: Final rule.

SUMMARY: The FAA is revising an existing airworthiness directive (AD) for General Electric Company (GE) CF6-50C series turbofan engines. That AD currently requires reworking certain forward fan stator cases and installing a fan module secondary containment shield. This AD requires the same actions but eliminates a certain service bulletin from the compliance method. This AD results from a review that shows that only one of the service bulletins referenced in the original AD is applicable as a compliance method. We are issuing this AD revision to eliminate a certain service bulletin from the compliance method and to prevent uncontained fan blade failures, which can result in separation of airplane hydraulic lines, damage to critical airplane systems, and possible loss of airplane control.

DATES: This AD becomes effective January 4, 2010. The Director of the Federal Register approved the incorporation by reference of certain publications listed in the regulations as of January 4, 2010.

ADDRESSES: You can get the service information identified in this AD from General Electric Company, GE-Aviation, Room 285, 1 Newmann Way, Cincinnati, OH 45215, telephone (513) 552-3272; fax (513) 552-3329; e-mail: geae.aoc@ge.com.

The Docket Operations office is located at Docket Management Facility, U.S. Department of Transportation, 1200 New Jersey Avenue, SE., West Building Ground Floor, Room W12-140, Washington, DC 20590-0001.

FOR FURTHER INFORMATION CONTACT: James Rosa, Aerospace Engineer, Engine Certification Office, FAA, Engine and Propeller Directorate, 12 New England Executive Park, Burlington, MA 01803; e-mail: james.rosa@faa.gov; telephone (781) 238-7152; fax (781) 238-7199.

SUPPLEMENTARY INFORMATION: The FAA proposed to amend 14 CFR part 39 with a proposed AD. The proposed AD applies to GE CF6-50C series turbofan engines. We published the proposed AD in the Federal Register on June 24, 2009 (74 FR 30018). That action proposed to require reworking certain forward fan stator cases, installing a fan module secondary containment shield on Airbus A300 series airplanes, and eliminating GE Service Bulletin (SB) No. CF6-50 S/B 72-0986, Revision 2, dated March 21, 2007, as an acceptable compliance method.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comments received.

Request To Change Service Bulletin References

One commenter, Airbus, requests that we reference the latest revision of GE SB No. CF6-50 S/B 72-0985 in the AD, which is Revision 3, dated August 22, 2007.

We agree. We changed the SB references in the AD to Revision 3.

Request To Remove European Aviation Safety Agency (EASA) AD Reference

Airbus requests that we remove the reference to EASA AD 2004-0007 from the AD, as it has been cancelled by EASA.

We agree and have removed the EASA AD reference.

Request To Include GE SB No. CF6-50 S/B 72-0986

One commenter, Tradewinds Airlines, requests that we include GE SB No. CF6-50 S/B 72-0986 in the AD, as this will give credit for previous installation of required shields.

We agree. If shields have been previously installed per GE SB No. CF6-50 S/B 72-0986, CF6-50 S/B 72-0986, Revision 01, or CF6-50 S/B 72-0986, Revision 02, credit will be allowed for that previous installation.

Conclusion

We have carefully reviewed the available data, including the comments received, and determined that air safety and the public interest require adopting the AD with the changes described previously. We have determined that these changes will neither increase the economic burden on any operator nor increase the scope of the AD.

Costs of Compliance

We estimate that this AD will affect 40 CF6-50C series turbofan engines installed on airplanes of U.S. registry. We also estimate that it will take about 2.5 work hours per engine to perform the actions, and that the average labor rate is $80 per work-hour. Required parts will cost about $9,451 per engine. Based on these figures, we estimate the total cost of the AD to U.S. operators to be $386,040.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15075 (72 FR 30249, May 31, 2007), and by adding a new airworthiness directive, Amendment 39-16093, to read as follows:

2007-11-18R1 General Electric Company: Amendment 39-16093. Docket No. FAA-2006-24171; Directorate Identifier 2006-NE-08-AD.

Effective Date

(a) This airworthiness directive (AD) becomes effective January 4, 2010.

Affected ADs

(b) This AD revises AD 2007-11-18, Amendment 39-15075.

Applicability

(c) This AD applies to General Electric Company (GE) CF6-50C, CF6-50C1, CF6-50C2, and CF6-50C2R turbofan engines, with a forward fan stator case, part number (P/N) 9064M53G04, G05, G06, G07, G08, G09, G10, G12, or G13, or P/N 9173M37G01, G02, G03, G04, G05, or G06 installed. These engines are installed on, but not limited to, Airbus A300, McDonnell Douglas DC-10 series, and DC-10-30F (KC-10A, KDC-10) airplanes.

Unsafe Condition

(d) This AD revision results from a review that shows that only one of the service bulletins referenced in the original AD is applicable as a compliance method. We are issuing this AD to eliminate a certain service bulletin from the compliance method and to prevent uncontained fan blade failures, which can result in separation of airplane hydraulic lines, damage to critical airplane systems, and possible loss of airplane control.

Compliance

(e) You are responsible for having the actions required by this AD performed within the compliance times specified, unless the actions have already been done.

(f) At the next engine shop visit after the effective date of this AD, but no later than June 30, 2010, rework the forward fan stator case and install the fan module secondary containment shield.

(1) For engines on Airbus 300 series airplanes, use paragraph 3, Accomplishment Instructions, of GE Service Bulletin (SB) No. CF6-50 S/B 72-0985, Revision 3, dated August 22, 2007, to do the rework and installation.

(2) Deleted.

(g) The rework and installation specified in paragraph (f)(1) of this AD can also be done on-wing.

Previous Credit

(h) Previous credit is allowed for fan stator cases reworked and containment shields installed using GE SB No. CF6-50 S/B 72-0985, dated December 2, 1991, Revision 1, dated September 15, 1998, or Revision 2, dated March 21, 2007, before the effective date of this AD. Credit is also allowed for fan stator cases reworked and containment shields installed using GE SB No. CF6-50 S/B 72-0986, dated December 2, 1991, Revision 1, dated September 15, 1998, or Revision 2, dated march 21, 2007.

Alternative Methods of Compliance

(i) The Manager, Engine Certification Office, has the authority to approve alternative methods of compliance for this AD if requested using the procedures found in 14 CFR 39.19.

Related Information

(j) Deleted.

(k) Contact James Rosa, Aerospace Engineer, Engine Certification Office, FAA, Engine and Propeller Directorate, 12 New England Executive Park, Burlington, MA 01803; e-mail: james.rosa@faa.gov; telephone (781) 238-7152; fax (781) 238-7199, for more information about this AD.

(l) Contact General Electric Company, GE-Aviation, Room 285, 1 Newmann Way, Cincinnati, OH 45215, telephone (513) 552- 3272; fax (513) 552-3329; e-mail: geae.aoc@ge.com, for a copy of the service information referenced in this AD.

Material Incorporated by Reference

(m) You must use GE Service Bulletin No. CF6-50 S/B 72-0985, Revision 3, dated August 22, 2007, to do the rework and installation required by this AD. The Director of the Federal Register approved the incorporation by reference of this service bulletin in accordance with 5 U.S.C. 552(a) and 1 CFR part 51. Contact General Electric Company, GE-Aviation, Room 285, 1 Newmann Way, Cincinnati, OH 45215, telephone (513) 552- 3272; fax (513) 552-3329; e-mail: geae.aoc@ge.com, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts, on November 16, 2009.
Peter A. White,
Assistant Manager, Engine and Propeller Directorate, Aircraft Certification Service.

[FR Doc. E9-28167 Filed 11-25-09; 8:45 am]

BILLING CODE 4910-13-P